DEPARTMENT OF STATE

[Public Notice:11187]

Cultural Property Advisory Committee; Notice of Meeting

AGENCY: Department of State.

ACTION: Notice of meeting.

SUMMARY: We are issuing this notice to announce the location, date, time, and agenda for the next meeting of the Cultural Property Advisory Committee.

DATES: The Cultural Property Advisory Committee (CPAC) will meet October 27-29, 2020, 10:00 a.m. to 5:00 p.m. (EDT). CPAC will hold an open session on October 27, 2020, at 2:00 p.m. (EDT). It will last approximately one hour.

Participation: You may participate in the open session by videoconference. To participate, visit http://culturalheritage.state.gov for information on how to access the meeting. Please submit any request for reasonable accommodation not later than October 20, 2020, by contacting the Bureau of Educational and Cultural Affairs at culprop@state.gov. It may not be possible to accommodate requests made after that date.

Comments: The Committee will review your written comment if it is received by October 13, 2020, at 11:59 p.m. (EDT). You are not required to submit a written comment in order to make an oral comment in the open session.

ADDRESSES: The meeting will be held by videoconference.

Written Comments: You may submit written comments in two ways, depending on whether they contain privileged or confidential information:

Electronic Comments: For ordinary comments, please use http://www.regulations.gov, enter the docket [DOS-2020-0036] and follow the prompts to submit your comments.

Email Comments: For comments that contain privileged or confidential information (within the meaning of 19 U.S.C. 2605(i)(1)), please email submissions to culprop@state.gov. Include “Nigeria” and/or “Greece” in the subject line.

FOR FURTHER INFORMATION CONTACT: For general questions concerning the meeting, contact Allison Davis, Bureau of Educational and Cultural Affairs—Cultural Heritage Center, by phone (202-632-6305) or email (culprop@state.gov).

SUPPLEMENTARY INFORMATION: In accordance with the Convention on Cultural Property Implementation Act (19 U.S.C. 2601 et seq.) (“the Act”), the Assistant Secretary of State for Educational and Cultural Affairs calls a meeting of the Cultural Property Advisory Committee (”the Committee”) (19 U.S.C. 2605(e)(2)). The Act describes the Committee's responsibilities. A portion of this meeting will be closed to the public pursuant to 5 U.S.C. 552b(c)(9)(B) and 19 U.S.C. 2605(h).

Meeting Agenda: The Committee will review the request by the Government of the Federal Republic of Nigeria seeking import restrictions on archaeological and ethnological material. The Committee will review the proposed extension of the cultural property agreement with the Government of the Hellenic Republic.

Open Session Participation: The Committee will hold an open session of the meeting to receive oral public comments on Nigeria's request for an agreement and the proposed extension of the agreement with Greece on Tuesday, October 27, 2020, from 2:00 p.m. to approximately 3:00 p.m. (EDT). We have provided specific instructions on how to participate or observe the open session at http://culturalheritage.state.gov.

You do not need to register to observe the open session. You do not have to submit written comments to make an oral comment in the open session. If you do wish to speak, however, you must request to be scheduled by October 20, 2020, via email (culprop@state.gov). Please submit your name and any organizational affiliation in this request. The open session will start with a brief presentation by the CPAC, after which you should be prepared to answer questions on any written statements you may have submitted. Finally, you may be invited to provide additional oral comments for a maximum of five (5) minutes per participant, time permitting. Due to time constraints, it may not be possible to accommodate all who wish to speak.

Written Comments: If you do not wish to participate in the open session but still wish to make your views known, you may submit written comments for the Committee's consideration. Submit non-privileged and non-confidential information (within the meaning of 19 U.S.C. 2605(i)(1)) regarding the proposed extensions of the agreements with Greece using the Regulations.gov website (listed in the “COMMENTS” section above) not later than October 13, 2020, at 11:59 p.m. (EDT). For comments that contain privileged or confidential information (within the meaning of 19 U.S.C. 2605(i)(1)), please send comments to culprop@state.gov. Include “Nigeria” and/or “Greece” in the subject line. In all cases, your written comments should relate specifically to the determinations specified in the Act at 19 U.S.C. 2602(a)(1). Written comments submitted via regulations.gov are not private and are posted at http://www.regulations.gov. Because written comments cannot be edited to remove any personally identifying or contact information, we caution against including any such information in an electronic submission without appropriate permission to disclose that information (including trade secrets and commercial or financial information that are privileged or confidential within the meaning of 19 U.S.C. 2605(i)(1)). We request that any party soliciting or aggregating written comments from other persons inform those persons that the Department will not edit their comments to remove any identifying or contact information and that they therefore should not include any such information in their comments that they do not want publicly disclosed.

Allison R. Davis,
Executive Director, CPAC, Bureau of Educational and Cultural Affairs, Department of State.

[FR Doc. 2020-18262 Filed 8-19-20; 8:45 am]

BILLING CODE 4710-05-P